DEPARTMENT OF THE INTERIOR

National Park Service

Notice of Intent To Repatriate Cultural Items: U.S. Department of Defense, Army Corps of Engineers, Portland District, Portland, OR and University of Oregon Museum of Natural and Cultural History, Eugene, OR

AGENCY: National Park Service, Interior.

ACTION: Notice.

Notice is hereby given in accordance with the Native American Graves Protection and Repatriation Act (NAGPRA), 25 U.S.C. 3005, of the intent to repatriate cultural items, for which the University of Oregon Museum of Natural and Cultural History, Eugene, OR, and U.S. Department of Defense, Army Corps of Engineers, Portland District, Portland, OR, have joint responsibility, that meet the definition of unassociated funerary objects under 25 U.S.C. 3001.

This notice is published as part of the National Park Service's administrative responsibilities under NAGPRA, 25 U.S.C. 3003(d)(3). The determinations in this notice are the sole responsibility of the museum, institution, or Federal agency that has control of the cultural items. The National Park Service is not responsible for the determinations in this notice.

Native American cultural items described in this notice were excavated under Antiquities Act permits by the University of Oregon, Eugene, OR, on Army Corps of Engineers project land. Following excavations at the site described below, and under the provisions of the permits, the University of Oregon retained the collections for preservation.

Between 1959 and 1968, cultural items were removed from site 35-GM-9, also known as the Wildcat Canyon site, Gilliam County, OR, during excavations by the University of Oregon prior to construction of the John Day Dam. The cultural items were accessioned by the University of Oregon Museum following each successive field season. The 1,420 objects recovered from Area 3 of site 35-GM-9, a cemetery primarily used from approximately 2,500-2,000 B.P., are categorized as unassociated funerary objects because specific associations with individual burials cannot be determined due to unclear spatial distributions of the artifacts in relation to particular sets of human remains. The 1,420 unassociated funerary objects are 32 projectile points, 25 projectile point fragments, 30 blades, 52 blade fragments, 1 multipurpose tool, 3 stone mauls, 1 obsidian chopper, 17 pestles, 14 pestle fragments, 1 hammerstone, 10 worked/flaked cobbles, 5 river pebbles, 1 flaked pebble, 1 rectangular flat stone, 1 flake knife, 12 gravers, 7 burins, 1 spokeshave, 1 core, 12 scrapers, 2 end scraper fragments, 12 bifacially-modified flakes, 55 unifacially-modified flakes, 7 curved flakes, 1 lamellar flake, 2 worked chert flakes, 935 unmodified flakes, 3 stone drills, 6 drill fragments, 5 stone clinkers, 1 possible metate, 1 galena atlatl weight, 1 bolas stone, 1 polishing stone, 2 worked shale or slate fragments, 5 abraders, 1 shaft smoother, 2 shaft smoother fragments, 1 antler awl fragment, 3 bone awl fragments, 1 bone shaft wrench, 1 bone tube, 17 worked antlers, 10 burned antlers, 1 deer jaw, 19 worked bones, 1 cut bone, 1 burned bone fragment, 1 notched bone, 2 decorated bones, 3 bone strips, 52 miscellaneous non-human bones and bone fragments, 2 stone pendant fragments, 1 shell pendant, 1 pebble pendant, 2 dentalia, 1 unspecified bead, 14 bone beads, 1 antler bead, 2 nose plugs, 1 worked pumice piece, 8 red ochre pieces, 1 shell, 1 grooved slate tool and 3 shell flecks.

Site 35-GM-9 is located along the south side shoreline of the Columbia River, approximately 9.5 river miles east of the John Day River confluence. The multicomponent site contains multiple activity areas that are believed to have been repeatedly occupied from approximately 9,000 B.P. to A.D. 1750. Site 35-GM-9 frequently served as a village, camping area and cemetery. Area 3 is believed to have primarily served as a burial area. The burial pattern observed within Area 3 is consistent with customs of Columbia Plateau Native American groups. Excavation and museum documentation indicate that the objects are consistent with cultural items typically found in context with burials characteristic of the Mid-Columbia River Basin.

Oral traditions and ethnographic reports indicate that site 35-GM-9 lies within the historic territory of Sahaptin-speaking Tenino or Warm Springs peoples whose descendants are culturally affiliated with the present-day Confederated Tribes of the Warm Springs Reservation of Oregon. The Confederated Tribes of the Warm Springs Reservation are composed of three Wasco bands, four Warm Springs bands, and Northern Paiutes. The Columbia River-based Wasco were the easternmost group of Chinookan-speaking Indians. The Sahaptin-speaking Warm Springs bands lived farther east along the Columbia River and its tributaries. Northern Paiutes, who spoke a Uto-Aztecan language, historically occupied much of southeastern Oregon. The Confederated Tribes of the Warm Springs Reservation of Oregon peoples also traditionally shared the site area with relatives and neighbors whose descendants may be culturally affiliated with the 14 Sahaptin, Salish and Chinookan-speaking tribes and bands of the present-day Confederated Tribes and Bands of the Yakama Nation, Washington. Yakama homelands were traditionally located on the Washington side of the Columbia River between the eastern flanks of the Cascade Range and the lower reaches of the Yakima River drainage.

Officials of the U.S. Army Corps of Engineers, Portland District, and University of Oregon Museum of Natural and Cultural History, have determined that, pursuant to 25 U.S.C. 3001(3)(B), the 1,420 cultural items described above are reasonably believed to have been placed with or near individual human remains at the time of death or later as part of the death rite or ceremony and are believed, by a preponderance of the evidence, to have been removed from specific burial sites of Native American individuals. Officials of the U.S. Army Corps of Engineers, Portland District, and University of Oregon Museum of Natural and Cultural History, have also determined that, pursuant to 25 U.S.C. 3001(2), there is a relationship of shared group identity that can be reasonably traced between the unassociated funerary objects and the Confederated Tribes of the Warm Springs Reservation of Oregon and/or Confederated Tribes and Bands of the Yakama Nation, Washington.

Representatives of any other Indian tribe that believes itself to be culturally affiliated with the unassociated funerary objects should contact Daniel Mulligan, NAGPRA Coordinator, Environmental Resources Branch, U.S. Army Corps of Engineers, Portland District, P.O. Box 2946, Portland, OR 97208-2946, telephone (503) 808-4768, before November 22, 2010. Repatriation of the unassociated funerary objects to the Confederated Tribes of the Warm Springs Reservation of Oregon and/or Confederated Tribes and Bands of the Yakama Nation, Washington, may proceed after that date if no additional claimants come forward.

The U.S. Army Corps of Engineers, Portland District, is responsible for notifying the Confederated Tribes of the Warm Springs Reservation of Oregon; Confederated Tribes and Bands of the Yakama Nation, Washington; Confederated Tribes of the Umatilla Indian Reservation, Oregon; and Nez Perce Tribe, Idaho, that this notice has been published.

Dated: October 14, 2010.
Sherry Hutt,
Manager, National NAGPRA Program.

[FR Doc. 2010-26466 Filed 10-20-10; 8:45 am]

BILLING CODE 4312-50-P